DEPARTMENT OF HOUSING AND URBAN DEVELOPMENT

[Docket Nos. FR-5800-FA-02, FR-5800-FA-25 and FR-5800-FA-33]

Announcement of Funding Awards for Fiscal Years 2014-2015 Comprehensive Housing Counseling Grant Program, Fiscal Year 2015 Supplemental Comprehensive Housing Counseling Grant Program and Fiscal Years 2014-2015 Housing Counseling Training Grant

AGENCY: Office of the Assistant Secretary for Housing—Federal Housing Commissioner, HUD.

ACTION: Notice of funding awards.

SUMMARY: In accordance with section 102(a)(4)(C) of the Department of Housing and Urban Development Reform Act of 1989 (42 U.S.C. 3545), this announcement notifies the public of Fiscal Year (FY) 2015 funding decisions made by the Department in competitions for funding under three Notices of Funding Availability (NOFA): The FY 2014-2015 Comprehensive Housing Counseling NOFA, the FY 2015 Supplemental Comprehensive Housing Counseling NOFA, and the FY 2014-2015 Housing Counseling Training NOFA. Appendices A, B, and C to this notice list this year's award recipients under each Housing Counseling Program NOFA.

FOR FURTHER INFORMATION CONTACT: Brian Siebenlist, Director, Office of Policy and Grant Administration, Office of Housing Counseling, Department of Housing and Urban Development, 451 7th Street SW., Room 9224, Washington, DC 20410, telephone (202) 402-5415. Hearing- or speech-impaired individuals may access this number by calling the Federal Relay Service at (800) 877-8339. (This is a toll-free number.)

SUPPLEMENTARY INFORMATION: The Housing Counseling Program is authorized by Section 106 of the Housing and Urban Development Act of 1968 (12 U.S.C. 1701x). Consistent with this authority, HUD enters into agreement with qualified public or private nonprofit organizations to provide housing counseling services to low- and moderate-income individuals and families nationwide. The housing counseling services supported by the Housing Counseling Program include providing information and assistance to the homeless, renters, homebuyers, homeowners, and senior citizens in areas such as pre-purchase counseling, financial management, property maintenance and other forms of housing assistance to help individuals and families improve their housing conditions and meet the responsibilities of tenancy and homeownership.

HUD funding of housing counseling agencies is not guaranteed, and when funds are awarded, a HUD grant does not cover all expenses incurred by an agency to deliver housing counseling services. Counseling agencies must actively seek additional funds from other sources such as city, county, state and federal agencies and from private entities to ensure that they have sufficient operating funds. The availability of housing counseling grants depends upon appropriations and the outcome of the award competition.

In accordance with Section 102(a)(4)(C) of the Department of Housing and Urban Development Reform Act of 1989 (103 Stat. 1987, 42 U.S.C. 3545), this Federal Register publication lists in Appendices A, B, and C the names, addresses, and amounts of each award made under the FY 2014-2015 Comprehensive Housing Counseling NOFA, the FY 2015 Supplemental Comprehensive Housing Counseling NOFA, and the FY 2014-2015 Housing Counseling Training NOFA, respectively. The requirements for the NOFAs are found in the following documents:

1. General Section to the Department's Fiscal Year 2014 NOFAs for Discretionary Programs, available at: http://portal.hud.gov/hudportal/documents/huddoc?id=2014-gensec.pdf.

2. Notice of Funding Availability for the Department's Fiscal Years 2014 and 2015 Comprehensive Housing Counseling Grant Program, available at: http://portal.hud.gov/hudportal/documents/huddoc?id=2014chcnofa.pdf.

3. Notice of Funding Availability (NOFA) for the Department's Fiscal Year 2015 Supplemental Comprehensive Housing Counseling Grant Program, available at: http://portal.hud.gov/hudportal/documents/huddoc?id=2015schcnofa.pdf.

4. HUD's FY 2014-2015 Housing Counseling Training Grant Notice of Funding Availability, available at: http://portal.hud.gov/hudportal/documents/huddoc?id=2014hctnofa.pdf.

Applications were scored and selected for funding on the basis of selection criteria contained in the NOFAs. HUD awarded more than $40 million in comprehensive grants to support the housing counseling services of 33 national and regional organizations, six multi-state organizations, 20 State Housing Finance Agencies and 248 local housing counseling agencies. HUD awarded $2 million to three national organizations to provide accessible and affordable training of housing counselors.

The Catalog of Federal Domestic Assistance number for the Housing Counseling Program is 14.169.

Dated: August 6, 2015.
Edward L. Golding,
Principal Deputy Assistant Secretary for Housing.

Appendix A—List of FY 2015 Awardees for the FY 2014-2015 Comprehensive Housing Counseling NOFA

Intermediary Organizations (29)

CATHOLIC CHARITIES USA

2050 Ballenger Avenue

Suite 400

ALEXANDRIA, VA 22314-6847

Grant Type: COMPREHENSIVE COUNSELING

Amount Awarded: $1,006,840.00

CCCS OF GREATER ATLANTA—DBA CLEARPOINT CREDIT COUNSELING SOLUTIONS

270 Peachtree St, Suite 1800

ATLANTA, GA 30303-1217

Grant Type: COMPREHENSIVE COUNSELING

Amount Awarded: $1,281,901.00

CITIZENS' HOUSING AND PLANNING ASSOCIATION, INC.

18 Tremont Street,

Suite 401

BOSTON, MA 02108-2301

Grant Type: COMPREHENSIVE COUNSELING

Amount Awarded: $604,616.00

GARDEN STATE CONSUMER CREDIT COUNSELING, INC. D/B/A/NAVICORE SOLUTIONS

200 U.S. Highway 9 North

MANALAPAN, NJ 07726-3072

Grant Type: COMPREHENSIVE COUNSELING

Amount Awarded: $351,950.00

GREENPATH, INC.

36500 Corporate Drive

FARMINGTON HILLS, MI 48331-3553

Grant Type: COMPREHENSIVE COUNSELING

Amount Awarded: $1,605,295.00

HOMEFREE—USA

6200 Baltimore Avenue

RIVERDALE, MD 20737-1054

Grant Type: COMPREHENSIVE COUNSELING

Amount Awarded: $1,300,186.00

HOMEOWNERSHIP PRESERVATION FOUNDATION

7645 Lyndale Ave. South

Suite 250

MINNEAPOLIS, MN 55423-4084

Grant Type: COMPREHENSIVE COUNSELING

Amount Awarded: $3,000,000.00

HOUSING & COMMUNITY DEVELOPMENT NETWORK OF NEW JERSEY

145 West Hanover Street

TRENTON, NJ 08618-4823

Grant Type: COMPREHENSIVE COUNSELING

Amount Awarded: $149,290.00

HOUSING PARTNERSHIP NETWORK

1 Washington Mall, 12th Fl

BOSTON, MA 02108-2603

Grant Type: COMPREHENSIVE COUNSELING

Amount Awarded: $793,066.00

MINNESOTA HOMEOWNERSHIP CENTER

1000 Payne Avenue

Suite 200

SAINT PAUL, MN 55130-3986

Grant Type: COMPREHENSIVE COUNSELING

Amount Awarded: $575,760.00

MISSISSIPPI HOMEBUYER EDUCATION CENTER- INITIATIVE

350 West Woodrow Wilson

Suite 3480

JACKSON, MS 39213-7681

Grant Type: COMPREHENSIVE COUNSELING

Amount Awarded: $233,546.00

MON VALLEY INITIATIVE

303-305 E. 8th Avenue

HOMESTEAD, PA 15120-1517

Grant Type: COMPREHENSIVE COUNSELING

Amount Awarded: $656,822.00

MONEY MANAGEMENT INTERNATIONAL INC.

14141 Southwest Fwy

Sugar Land, TX 77478-3493

Grant Type: COMPREHENSIVE COUNSELING

Amount Awarded: $2,029,378.00

NACA (NEIGHBORHOOD ASSISTANCE CORPORATION OF AMERICA)

225 Centre Street, Suite 100

ROXBURY, MA 02119-1298

Grant Type: COMPREHENSIVE COUNSELING

Amount Awarded: $1,098,394.00

NATIONAL ASSOCIATION OF REAL ESTATE BROKERS-INVESTMENT DIVISION, INC

7677 OakPort Street, Suite 1030, 10th Fl

OAKLAND, CA 94621-1929

Grant Type: COMPREHENSIVE COUNSELING

Amount Awarded: $734,592.00

NATIONAL CAPACD

1628 16th Street, NW

4th Floor

WASHINGTON, DC 20009-3064

Grant Type: COMPREHENSIVE COUNSELING

Amount Awarded: $470,901.00

NATIONAL COMMUNITY REINVESTMENT COALITION, INC.

727 15th Street, NW Suite 900

WASHINGTON, DC 20005-6027

Grant Type: COMPREHENSIVE COUNSELING

Amount Awarded: $1,702,999.00

NATIONAL COUNCIL OF LA RAZA

1126 16th Street, NW, Suite 600

Raul Yzaguirre Building

WASHINGTON, DC 20036-4845

Grant Type: COMPREHENSIVE COUNSELING

Amount Awarded: $1,203,399.00

NATIONAL COUNCIL ON AGING (NCOA)

251 18th St S

Suite 500

Arlington, VA 22202-3531

Grant Type: COMPREHENSIVE COUNSELING

Amount Awarded: $443,302.00

NATIONAL FEDERATION OF COMMUNITY DEVELOPMENT CREDIT UNIONS

39 Broadway, 21st Floor

NEW YORK, NY 10006-3003

Grant Type: COMPREHENSIVE COUNSELING

Amount Awarded: $420,833.00

NATIONAL FOUNDATION FOR CREDIT COUNSELING, INC.

2000 M St. NW

Suite 505

WASHINGTON, DC 20036-3307

Grant Type: COMPREHENSIVE COUNSELING

Amount Awarded: $1,514,073.00

NATIONAL URBAN LEAGUE

120 Wall Street

NEW YORK, NY 10005-3904

Grant Type: COMPREHENSIVE COUNSELING

Amount Awarded: $917,058.00

NEIGHBORHOOD REINVESTMENT CORP. DBA NEIGHBORWORKS AMERICA

999 North Capitol Street, NE

Suite 900

WASHINGTON, DC 20002-4684

Grant Type: COMPREHENSIVE COUNSELING

Amount Awarded: $2,936,648.00

NEW YORK MORTGAGE COALITION

50 Broad Street

Suite 1125

NEW YORK, NY 10004-2307

Grant Type: COMPREHENSIVE COUNSELING

Amount Awarded: $337,208.00

NUEVA ESPERANZA, INC.

4261 N 5th St

Philadelphia, PA 19140-2615

Grant Type: COMPREHENSIVE COUNSELING

Amount Awarded: $456,667.00

RURAL COMMUNITY ASSISTANCE CORPORATION

3120 Freeboard Drive

Suite 201

WEST SACRAMENTO, CA 95691-5039

Grant Type: COMPREHENSIVE COUNSELING

Amount Awarded: $530,424.00

SPRINGBOARD NON-PROFIT CONSUMER CREDIT MANAGEMENT, INC

4351 Latham St

RIVERSIDE, CA 92501-1749

Grant Type: COMPREHENSIVE COUNSELING

Amount Awarded: $363,505.00

UNITED WAY OF CENTRAL ALABAMA, INC.

3600 8th Avenue

BIRMINGHAM, AL 35222-3250

Grant Type: COMPREHENSIVE COUNSELING

Amount Awarded: $142,574.00

WEST TENNESSEE LEGAL SERVICES, INCORPORATED

210 West Main Street

JACKSON, TN 38301-6114

Grant Type: COMPREHENSIVE COUNSELING

Amount Awarded: $640,462.00

Multi-State Organizations (6)

CCCS OF GREATER DALLAS, INC.

8737 King George Drive

SUITE 200

DALLAS, TX 75235-2222

Grant Type: COMPREHENSIVE COUNSELING

Amount Awarded: $264,294.00

CONSUMER CREDIT AND BUDGET COUNSELING, DBA NATIONAL FOUNDATION FOR DEBT MANAGEMENT

299 S Shore Rd

US Route 9 So

Marmora, NJ 08223-1210

Grant Type: COMPREHENSIVE COUNSELING

Amount Awarded: $90,788.00

CREDIT ADVISORS FOUNDATION

1818 S. 72nd Street

OMAHA, NE 68124-1704

Grant Type: COMPREHENSIVE COUNSELING

Amount Awarded: $81,467.00

CREDIT CARD MGMT SVCS, INC D/B/A DEBTHELPER.COM

1325 N Congress Ave

#201

WEST PALM BEACH, FL 33401-2005

Grant Type: COMPREHENSIVE COUNSELING

Amount Awarded: $85,391.00

OPERATION HOPE, INC

707 Wilshire Blvd Suite 3030

LOS ANGELES, CA 90017-3582

Grant Type: COMPREHENSIVE COUNSELING

Amount Awarded: $192,524.00

TELAMON CORPORATION

5560 Munford Road

Suite 201

RALEIGH, NC 27612-2635

Grant Type: COMPREHENSIVE COUNSELING

Amount Awarded: $212,307.00

State Housing Finance Agencies (20)

ARKANSAS DEVELOPMENT FINANCE AUTHORITY

900 W Capitol, Suite 310

LITTLE ROCK, AR 72201-9708

Grant Type: COMPREHENSIVE COUNSELING

Amount Awarded: $21,273.00

COLORADO HOUSING AND FINANCE AUTHORITY

1981 Blake St.

DENVER, CO 80202-1229

Grant Type: COMPREHENSIVE COUNSELING

Amount Awarded: $417,665.00

CONNECTICUT HOUSING FINANCE AUTHORITY

999 West Street

ROCKY HILL, CT 06067-3011

Grant Type: COMPREHENSIVE COUNSELING

Amount Awarded: $158,710.00

DELAWARE STATE HOUSING AUTHORITY

18 The Green

DOVER, DE 19901-3612

Grant Type: COMPREHENSIVE COUNSELING

Amount Awarded: $111,395.00

GEORGIA HOUSING AND FINANCE AUTHORITY

60 Executive Park South, NE

ATLANTA, GA 30329-2296

Grant Type: COMPREHENSIVE COUNSELING

Amount Awarded: $641,807.00

IDAHO HOUSING AND FINANCE ASSOCIATION

565 West Myrtle

BOISE, ID 83702-7675

Grant Type: COMPREHENSIVE COUNSELING

Amount Awarded: $159,579.00

KENTUCKY HOUSING CORPORATION

1231 Louisville Rd.

FRANKFORT, KY 40601-6156

Grant Type: COMPREHENSIVE COUNSELING

Amount Awarded: $222,031.00

LOUISIANA HOUSING CORPORATION

2415 Quail Drive

BATON ROUGE, LA 70808-0120

Grant Type: COMPREHENSIVE COUNSELING

Amount Awarded: $497,471.00

MAINE STATE HOUSING AUTHORITY

353 Water Street

AUGUSTA, ME 04330-4665

Grant Type: COMPREHENSIVE COUNSELING

Amount Awarded: $203,814.00

MISSISSIPPI HOME CORPORATION

735 Riverside Drive

JACKSON, MS 39202-1166

Grant Type: COMPREHENSIVE COUNSELING

Amount Awarded: $289,520.00

NEW HAMPSHIRE HOUSING FINANCE AUTHORITY

32 Constitution Dr

Bedford, NH 03110-6062

Grant Type: COMPREHENSIVE COUNSELING

Amount Awarded: $201,968.00

NEW JERSEY HOUSING AND MORTGAGE FINANCE AGENCY

637 South Clinton Avenue

TRENTON, NJ 08611-1811

Grant Type: COMPREHENSIVE COUNSELING

Amount Awarded: $158,421.00

NEW YORK STATE HOUSING FINANCE AGENCY

38-40 State Street

4th Floor

ALBANY, NY 12207-2837

Grant Type: COMPREHENSIVE COUNSELING

Amount Awarded: $598,895.00

NORTH CAROLINA HOUSING FINANCE AGENCY

3508 Bush Street

RALEIGH, NC 27609-7509

Grant Type: COMPREHENSIVE COUNSELING

Amount Awarded: $774,875.00

NORTH DAKOTA HOUSING FINANCE AGENCY

2624 Vermont Avenue

BISMARCK, ND 58504-6803

Grant Type: COMPREHENSIVE COUNSELING

Amount Awarded: $140,072.00

PENNSYLVANIA HOUSING FINANCE AGENCY

211 North Front Street

HARRISBURG, PA 17101-1406

Grant Type: COMPREHENSIVE COUNSELING

Amount Awarded: $1,039,231.00

SOUTH DAKOTA HOUSING DEVELOPMENT AUTHORITY

3060 E. Elizabeth Street

PIERRE, SD 57501-5876

Grant Type: COMPREHENSIVE COUNSELING

Amount Awarded: $189,987.00

VIRGIN ISLANDS HOUSING FINANCE AUTHORITY

3202 Demarara No.3 Frenchtown Plaza Suite 200

St. Thomas, VI 00802

Grant Type: COMPREHENSIVE COUNSELING

Amount Awarded: $43,368.00

VIRGINIA HOUSING DEVELOPMENT AUTHORITY

601 S. Belvidere Street

RICHMOND, VA 23220-6504

Grant Type: COMPREHENSIVE COUNSELING

Amount Awarded: $865,555.00

WASHINGTON STATE HOUSING FINANCE COMMISSION

1000 2nd Avenue Suite 2700

SEATTLE, WA 98104-3601

Grant Type: COMPREHENSIVE COUNSELING

Amount Awarded: $263,464.00

Local Housing Counseling Agencies (216)

ABAYOMI COMMUNITY DEVELOPMENT CORPORATION

24331 W. Eight Mile Road

DETROIT, MI 48219-1028

Grant Type: COMPREHENSIVE COUNSELING

Amount Awarded: $15,900.00

ADMINISTRATION OF RESOURCES AND CHOICES

3003 S. Country Club Road

Suite 219

TUCSON, AZ 85713-4082

Grant Type: COMPREHENSIVE COUNSELING

Amount Awarded: $16,327.00

ADOPT A HURRICANE FAMILY, INC. DBA CRISIS HOUSING SOLUTIONS

4700 SW 64th Avenue—Suite C

DAVIE, FL 33314-4433

Grant Type: COMPREHENSIVE COUNSELING

Amount Awarded: $15,424.00

AFFORDABLE HOMEOWNERSHIP FOUNDATION INC

5264 Clayton Ct Ste 1

Fort Myers, FL 33907-2112

Grant Type: COMPREHENSIVE COUNSELING

Amount Awarded: $18,660.00

AFFORDABLE HOUSING ENTERPRISES, INC.

333 S. 9th Street

GRIFFIN, GA 30224-4111

Grant Type: COMPREHENSIVE COUNSELING

Amount Awarded: $13,023.00

AFRICAN DEVELOPMENT CENTER OF MINNESOTA

1931 S 5th St

Minneapolis, MN 55454-1257

Grant Type: COMPREHENSIVE COUNSELING

Amount Awarded: $13,315.00

ALLEGANY COUNTY COMMUNITY OPPORTUNITIES AND RURAL DEVELOPMENT (ACCORD) CORP.

PO Box 573

Belmont, NY 14813-0573

Grant Type: COMPREHENSIVE COUNSELING

Amount Awarded: $16,324.00

AMERICAN DEBT RESOURCES

248C Larkfield Road

EAST NORTHPORT, NY 11731-2443

Grant Type: COMPREHENSIVE COUNSELING

Amount Awarded: $16,671.00

ANOKA COUNTY COMMUNITY ACTION PROGRAM, INC

1201 89th Ave NE

Suite 345

BLAINE, MN 55434-3370

Grant Type: COMPREHENSIVE COUNSELING

Amount Awarded: $15,264.00

APPALACHIAN HOUSING AND REDEVELOPMENT CORPORATION

PO Box 1428

Rome, GA 30162-1428

Grant Type: COMPREHENSIVE COUNSELING

Amount Awarded: $13,447.00

AREA COMMITTEE TO IMPROVE OPPORTUNITIES NOW, INC.

594 Oconee Street

ATHENS, GA 30605-1721

Grant Type: COMPREHENSIVE COUNSELING

Amount Awarded: $14,759.00

ARUNDEL COMMUNITY DEVELOPMENT SERVICE INC

2666 Riva Road

Suite 210

ANNAPOLIS, MD 21401-7345

Grant Type: COMPREHENSIVE COUNSELING

Amount Awarded: $17,000.00

ASIAN INCORPORATED

1167 Mission Street, 4th Floor

SAN FRANCISCO, CA 94103-1544

Grant Type: COMPREHENSIVE COUNSELING

Amount Awarded: $16,444.00

BAY AREA HOUSING, INC

114 Washington Ave

Bay City, MI 48708-5846

Grant Type: COMPREHENSIVE COUNSELING

Amount Awarded: $14,972.00

BETTER NEIGHBORHOODS, INCORPORATED

986 Albany St

Schenectady, NY 12307-1513

Grant Type: COMPREHENSIVE COUNSELING

Amount Awarded: $15,011.00

BLACK BOTTOM/SPRINGFIELD HUMAN DEVELOPMENT CORPORATION, DBA ST. JOSEPH HOMEOWNERSHIP

485 West First Street, Suite 239

JACKSONVILLE, FL 32202-3930

Grant Type: COMPREHENSIVE COUNSELING

Amount Awarded: $13,698.00

BRIGHT COMMUNITY TRUST, INC.

2605 Enterprise Road E. Suite 230

CLEARWATER, FL 33759-1067

Grant Type: COMPREHENSIVE COUNSELING

Amount Awarded: $12,638.00

BROWARD COUNTY HOUSING AUTHORITY

4780 N State Road 7

LAUDERDALE LAKES, FL 33319-5860

Grant Type: COMPREHENSIVE COUNSELING

Amount Awarded: $17,443.00

C.E.F.S. ECONOMIC OPPORTUNITY CORPORATION

1805 S. Banker Street

EFFINGHAM, IL 62401-2765

Grant Type: COMPREHENSIVE COUNSELING

Amount Awarded: $13,698.00

CAMPBELLSVILLE HOUSING AND REDEVELOPMENT AUTHORITY

400 Ingram Ave

PO Box 597

CAMPBELLSVILLE, KY 42718-1627

Grant Type: COMPREHENSIVE COUNSELING

Amount Awarded: $13,023.00

CAPSTONE COMMUNITY ACTION

20 Gable Pl

Barre, VT 05641-4138

Grant Type: COMPREHENSIVE COUNSELING

Amount Awarded: $18,221.00

CATHOLIC CHARITIES DIOCESE OF ST. CLOUD

157 Roosevelt Rd Ste 200

Saint Cloud, MN 56301-5485

Grant Type: COMPREHENSIVE COUNSELING

Amount Awarded: $15,783.00

CATHOLIC SOCIAL SERVICES—FALL RIVER

PO Box M

Fall River, MA 02724-0388

Grant Type: COMPREHENSIVE COUNSELING

Amount Awarded: $13,622.00

CCCS OF HUNTINGTON, A DIVISION OF GOODWILL INDUSTRIES

1102 Memorial Blvd W

Huntington, WV 25701-4540

Grant Type: COMPREHENSIVE COUNSELING

Amount Awarded: $15,223.00

CCCS OF KERN AND TULARE COUNTIES

2001 F Street

BAKERSFIELD, CA 93301-4237

Grant Type: COMPREHENSIVE COUNSELING

Amount Awarded: $15,940.00

CCCS OF WEST FL—MAIN OFFICE

N.F.C.C UNIT #19005/19005-SI

14 Palafox Place

Pensacola, FL 32502

Grant Type: COMPREHENSIVE COUNSELING

Amount Awarded: $27,003.00

CEIBA HOUSING AND ECONOMIC DEVELOPMENT CORPORATION

555 Calle Julian Rivera

CEIBA, PR 00735-2717

Grant Type: COMPREHENSIVE COUNSELING

Amount Awarded: $14,587.00

CENTER FOR INDEPENDENT LIVING IN CENTRAL FLORIDA, INC.

720 N Denning Dr

Winter Park, FL 32789-3020

Grant Type: COMPREHENSIVE COUNSELING

Amount Awarded: $12,214.00

CENTER FOR SIOUXLAND

715 Douglas St

Sioux City, IA 51101-1021

Grant Type: COMPREHENSIVE COUNSELING

Amount Awarded: $16,071.00

CENTRAL JERSEY HOUSING RESOURCE CENTER, INC.

600 1st Ave Ste 3

Raritan, NJ 08869-1346

Grant Type: COMPREHENSIVE COUNSELING

Amount Awarded: $16,960.00

CENTRO DE AYUDA PARA LOS HISPANOS, INC.

5575 South Semoran Blvd

Suite 5015

ORLANDO, FL 32822-1747

Grant Type: COMPREHENSIVE COUNSELING

Amount Awarded: $16,536.00

CHARLESTON TRIDENT URBAN LEAGUE, INC.

1064 Gardner Road

Suite 216

CHARLESTON, SC 29407-5768

Grant Type: COMPREHENSIVE COUNSELING

Amount Awarded: $12,850.00

CHATHAM COUNTY HOUSING AUTHORITY

13450 US Hwy 64 West

SILER CITY, NC 27344-6443

Grant Type: COMPREHENSIVE COUNSELING

Amount Awarded: $12,770.00

CITY OF BLOOMINGTON—HOUSING AND NEIGHBORHOOD DEVELOPMENT (HAND)

401 N Morton Street

BLOOMINGTON, IN 47404-3729

Grant Type: COMPREHENSIVE COUNSELING

Amount Awarded: $15,571.00

CITY OF FULTON COMMUNITY DEVELOPMENT AGENCY

125 West Broadway

FULTON, NY 13069-2215

Grant Type: COMPREHENSIVE COUNSELING

Amount Awarded: $11,922.00

CITY OF SAN ANTONIO/DEPARTMENT OF HUMAN SERVICES

106 S. Saint Marys St, 7th Floor

SAN ANTONIO, TX 78205-3601

Grant Type: COMPREHENSIVE COUNSELING

Amount Awarded: $16,960.00

CLINCH-POWELL RESOURCE CONSERVATION AND DEVELOPMENT COUNCIL, INC

7995 Rutledge Pike

RUTLEDGE, TN 37861-3003

Grant Type: COMPREHENSIVE COUNSELING

Amount Awarded: $16,152.00

COLUMBUS HOUSING INITIATIVE, INC. DBA NEIGHBORWORKS COLUMBUS

18 W 11th St

Columbus, GA 31901-4224

Grant Type: COMPREHENSIVE COUNSELING

Amount Awarded: $15,011.00

COMMUNITY ACTION AGENCY

1214 Greenwood Avenue

Jackson, MI 49203

Grant Type: COMPREHENSIVE COUNSELING

Amount Awarded: $18,448.00

COMMUNITY ACTION AGENCY OF NORTHWEST ALABAMA, INC.

745 Thompson St

Florence, AL 35630-3867

Grant Type: COMPREHENSIVE COUNSELING

Amount Awarded: $16,071.00

COMMUNITY ACTION IN SELF HELP, INCORPORATED

48 Water St

Lyons, NY 14489-1244

Grant Type: COMPREHENSIVE COUNSELING

Amount Awarded: $16,803.00

COMMUNITY ACTION NETWORK, INC.

7891 Highway 69 S

Springville, TN 38256-5400

Grant Type: COMPREHENSIVE COUNSELING

Amount Awarded: $14,335.00

COMMUNITY ACTION PARTNERSHIP OF NORTH ALABAMA, INC.

1909 Central Pkwy SW

Decatur, AL 35601-6822

Grant Type: COMPREHENSIVE COUNSELING

Amount Awarded: $12,598.00

COMMUNITY ACTION PARTNERSHIP OF SUBURBAN HENNEPIN

8800 Highway 7 Ste 401

St Louis Park, MN 55426-3929

Grant Type: COMPREHENSIVE COUNSELING

Amount Awarded: $20,904.00

COMMUNITY ACTION PARTNERSHIP, HUNTSVILLE/MADISON & LIMESTONE COUNTIES, INC

PO Box 3975

Huntsville, AL 35810-0975

Grant Type: COMPREHENSIVE COUNSELING

Amount Awarded: $13,779.00

COMMUNITY ACTION PROGRAM OF EVANSVILLE & VANDERBURGH COUNTY, INC

401 SE 6th St Ste 1

Evansville, IN 47713-1249

Grant Type: COMPREHENSIVE COUNSELING

Amount Awarded: $14,627.00

COMMUNITY CONNECTION OF NORTHEAST OREGON, INC.

2802 Adams Ave

La Grande, OR 97850-5267

Grant Type: COMPREHENSIVE COUNSELING

Amount Awarded: $14,295.00

COMMUNITY DEVELOPMENT & IMPROVEMENT CORP.

560 Jefferson Davis Highway

GRANITEVILLE, SC 29829-2748

Grant Type: COMPREHENSIVE COUNSELING

Amount Awarded: $11,538.00

COMMUNITY DEVELOPMENT SUPPORT ASSOCIATION

2615 E Randolph Ave

Enid, OK 73701-4670

Grant Type: COMPREHENSIVE COUNSELING

Amount Awarded: $13,516.00

COMMUNITY ENTERPRISE INVESTMENTS, INCORPORATED

302 North Barcelona St

PENSACOLA, FL 32501-4806

Grant Type: COMPREHENSIVE COUNSELING

Amount Awarded: $13,698.00

COMMUNITY HOUSING COUNCIL OF FRESNO

2560 W. Shaw Lane, Ste. 101

FRESNO, CA 93711-2777

Grant Type: COMPREHENSIVE COUNSELING

Amount Awarded: $16,364.00

COMMUNITY HOUSING INITIATIVE, INC

3033 College Wood Dr

Melbourne, FL 32934-8324

Grant Type: COMPREHENSIVE COUNSELING

Amount Awarded: $13,315.00

COMMUNITY HOUSING SOLUTIONS

2114 Larchmere Blvd

CLEVELAND, OH 44120-1139

Grant Type: COMPREHENSIVE COUNSELING

Amount Awarded: $15,728.00

COMMUNITY INVESTMENT CORPORATION OF DECATUR, INC

2121 S. Imboden Court

DECATUR, IL 62521-5286

Grant Type: COMPREHENSIVE COUNSELING

Amount Awarded: $12,811.00

COMMUNITY RENEWAL TEAM, INC.

330 Market Street

HARTFORD, CT 06120-2901

Grant Type: COMPREHENSIVE COUNSELING

Amount Awarded: $14,547.00

COMMUNITY SERVICE NETWORK, INC.

136 Elm Street

STONEHAM, MA 02180-3426

Grant Type: COMPREHENSIVE COUNSELING

Amount Awarded: $14,298.00

COMMUNITY SERVICE PROGRAMS OF WEST ALABAMA, INC.

601 Black Bears Way

TUSCALOOSA, AL 35401-4807

Grant Type: COMPREHENSIVE COUNSELING

Amount Awarded: $16,032.00

COMMUNITY SERVICES AND EMPLOYMENT TRAINING, INC. (CSET)

312 NW 3rd Avenue

VISALIA, CA 93291-3626

Grant Type: COMPREHENSIVE COUNSELING

Amount Awarded: $13,910.00

COMMUNITY SERVICES LEAGUE

404 North Noland Road

INDEPENDENCE, MO 64050-3057

Grant Type: COMPREHENSIVE COUNSELING

Amount Awarded: $15,396.00

COMPREHENSIVE HOUSING RESOURCES, INC.

21450 Gibralter Dr Ste 1

Port Charlotte, FL 33952-5417

Grant Type: COMPREHENSIVE COUNSELING

Amount Awarded: $14,839.00

CONSOLIDATED CREDIT SOLUTIONS, INC.

5701 W Sunrise Blvd

Plantation, FL 33313-6269

Grant Type: COMPREHENSIVE COUNSELING

Amount Awarded: $30,892.00

CONSUMER CREDIT COUNSELING SERVICE OF CENTRAL OKLAHOMA

3230 N Rockwell Ave

Bethany, OK 73008-4034

Grant Type: COMPREHENSIVE COUNSELING

Amount Awarded: $20,981.00

CONSUMER CREDIT COUNSELING SERVICE OF WNC, INC.—DBA—ONTRACK FINANCIAL EDUCATION & COUNSELING

50 S French Broad Ave

Ste 227

Asheville, NC 28801-3271

Grant Type: COMPREHENSIVE COUNSELING

Amount Awarded: $22,908.00

CONSUMER EDUCATION SERVICES, INC

3700 Barrett Dr

Raleigh, NC 27609-7213

Grant Type: COMPREHENSIVE COUNSELING

Amount Awarded: $24,586.00

COVENANT FAITH OUTREACH MINISTRIES—COVENANT COMMUNITY DEVELOPMENT CORPORATION

146 South Thomas Street Suite B-II

TUPELO, MS 38801-5328

Grant Type: COMPREHENSIVE COUNSELING

Amount Awarded: $15,355.00

CRAWFORD SEBASTIAN COMMUNITY DEVELOPMENT COUNCIL

4831 Armour St.

FORT SMITH, AR 72904-4523

Grant Type: COMPREHENSIVE COUNSELING

Amount Awarded: $15,608.00

CREDIT & HOMEOWNERSHIP EMPOWERMENT SERVICES, INC.

3125 Gillham Plaza

KANSAS CITY, MO 64109-1711

Grant Type: COMPREHENSIVE COUNSELING

Amount Awarded: $13,490.00

CREDIT ADVOCATE COUNSELING CORP

237 First Avenue

Suite 305

NEW YORK, NY 10003-2919

Grant Type: COMPREHENSIVE COUNSELING

Amount Awarded: $13,355.00

CUMBERLAND COMMUNITY ACTION PROGRAM, INC.

PO Box 2009

Fayetteville, NC 28302-2009

Grant Type: COMPREHENSIVE COUNSELING

Amount Awarded: $22,949.00

DESERT MISSION NEIGHBORHOOD RENEWAL

9229 N 4th St

Phoenix, AZ 85020-2530

Grant Type: COMPREHENSIVE COUNSELING

Amount Awarded: $13,023.00

DIVERSIFIED HOUSING DEVELOPMENT, INC.

8025 Liberty Rd

Windsor Mill, MD 21244-2966

Grant Type: COMPREHENSIVE COUNSELING

Amount Awarded: $15,859.00

DREAM HOME ORGANIZATION, INC.

7390 NW 5th Street Suite #4

PLANTATION, FL 33317-1610

Grant Type: COMPREHENSIVE COUNSELING

Amount Awarded: $14,032.00

DUPAGE HOMEOWNERSHIP CENTER, INC

1600 E. Roosevelt Road

WHEATON, IL 60187-6808

Grant Type: COMPREHENSIVE COUNSELING

Amount Awarded: $18,872.00

EASTER SEALS OF GREATER HOUSTON, INC.

4500 Bissonnet St Ste 340

Bellaire, TX 77401-3009

Grant Type: COMPREHENSIVE COUNSELING

Amount Awarded: $16,071.00

EASTERN IOWA REGIONAL HOUSING AUTHORITY

7600 Commerce Park

DUBUQUE, IA 52002-9673

Grant Type: COMPREHENSIVE COUNSELING

Amount Awarded: $16,591.00

ECONOMIC OPPORTUNITY FOR SAVANNAH CHATHAM COUNTY AREA, INC.

618 W Anderson St

SAVANNAH, GA 31415-5420

Grant Type: COMPREHENSIVE COUNSELING

Amount Awarded: $14,587.00

EDEN COUNCIL FOR HOPE AND OPPORTUNITY (ECHO)

770 A St

Hayward, CA 94541-3956

Grant Type: COMPREHENSIVE COUNSELING

Amount Awarded: $15,476.00

ELIZABETH CITY STATE UNIVERSITY COMMUNITY DEVELOPMENT PROGRAM

1704 Weeksville Rd.

ELIZABETH CITY, NC 27909-7977

Grant Type: COMPREHENSIVE COUNSELING

Amount Awarded: $15,608.00

EL PASO COMMUNITY ACTION PROGRAM, PROJECT BRAVO, INC.

2000 Texas Ave

EL PASO, TX 79901-1919

Grant Type: COMPREHENSIVE COUNSELING

Amount Awarded: $14,335.00

FAIR HOUSING CONTACT SERVICE

441 Wolf Ledges Pkwy Ste 200

Akron, OH 44311-1038

Grant Type: COMPREHENSIVE COUNSELING

Amount Awarded: $17,479.00

FAIR HOUSING COUNCIL OF RIVERSIDE COUNTY, INC

3933 Mission Inn Ave

RIVERSIDE, CA 92501-3219

Grant Type: COMPREHENSIVE COUNSELING

Amount Awarded: $20,926.00

FAIR HOUSING OF MARIN

1314 Lincoln Ave.

SAN RAFAEL, CA 94901-2105

Grant Type: COMPREHENSIVE COUNSELING

Amount Awarded: $13,315.00

FAIR HOUSING RESOURCE CENTER

1100 Mentor Ave

PAINESVILLE, OH 44077-1832

Grant Type: COMPREHENSIVE COUNSELING

Amount Awarded: $18,141.00

FAMILY HOUSING ADVISORY SERVICES, INC.

2401 Lake St

Omaha, NE 68111-3872

Grant Type: COMPREHENSIVE COUNSELING

Amount Awarded: $17,878.00

FAMILY MANAGEMENT CREDIT COUNSELORS, INC.

359 Rock Island Ave

Waterloo, IA 50701-5301

Grant Type: COMPREHENSIVE COUNSELING

Amount Awarded: $19,936.00

FIFTH-WARD COMMUNITY REDEVELOPMENT CORP.

4300 Lyons Ave Ste 300

Houston, TX 77020-2569

Grant Type: COMPREHENSIVE COUNSELING

Amount Awarded: $16,748.00

FRANKLIN COUNTY COMMUNITY HOUSING COUNCIL

337 West Main Street

MALONE, NY 12953-1751

Grant Type: COMPREHENSIVE COUNSELING

Amount Awarded: $13,991.00

FREDERICK COMMUNITY ACTION AGENCY

100 S Market St

FREDERICK, MD 21701-5527

Grant Type: COMPREHENSIVE COUNSELING

Amount Awarded: $18,543.00

GAP COMMUNITY DEVELOPMENT RESOURCES, INC.

129 West Fowlkes Street

Suite 137

FRANKLIN, TN 37064-3561

Grant Type: COMPREHENSIVE COUNSELING

Amount Awarded: $14,972.00

GENESIS HOUSING DEVELOPMENT CORPORATION

7735 S. Vernon Avenue

CHICAGO, IL 60619-2922

Grant Type: COMPREHENSIVE COUNSELING

Amount Awarded: $15,688.00

GREATER BERGEN COMMUNITY ACTION, INC.

241 Moore St

Hackensack, NJ 07601-7533

Grant Type: COMPREHENSIVE COUNSELING

Amount Awarded: $15,677.00

HABITAT FOR HUMANITY OF JACKSONVILLE, INC.

2404 Hubbard Street

JACKSONVILLE, FL 32206-2911

Grant Type: COMPREHENSIVE COUNSELING

Amount Awarded: $13,062.00

HABITAT FOR HUMANITY, STANISLAUS COUNTY

630 Kearney Avenue

MODESTO, CA 95350-5714

Grant Type: COMPREHENSIVE COUNSELING

Amount Awarded: $15,688.00

HAGERSTOWN NEIGHBORHOOD DEVELOPMENT PARTNERSHIP, INC. (HNDP)

21 E Franklin St

Hagerstown, MD 21740-4914

Grant Type: COMPREHENSIVE COUNSELING

Amount Awarded: $14,122.00

HISPANIC ASSOCIATION OF CONTRACTORS AND ENTERPRISES

167 W Allegheny Ave

Philadelphia, PA 19140-5846

Grant Type: COMPREHENSIVE COUNSELING

Amount Awarded: $15,940.00

HOME OPPORTUNITIES MADE EASY, INC. (HOME, INC.)

1111 Ninth Street, Suite 210

DES MOINES, IA 50314-2527

Grant Type: COMPREHENSIVE COUNSELING

Amount Awarded: $14,295.00

HOME PARTNERSHIP, INC. (HPI)

626 Towne Center Dr

Joppa, MD 21085-4446

Grant Type: COMPREHENSIVE COUNSELING

Amount Awarded: $15,396.00

HOME REPAIR SERVICES OF KENT COUNTY

1100 Division Ave S

Grand Rapids, MI 49507-1024

Grant Type: COMPREHENSIVE COUNSELING

Amount Awarded: $15,476.00

HOMES IN PARTNERSHIP, INC.

P.O. Box 761

Apopka, FL 32704-0761

Grant Type: COMPREHENSIVE COUNSELING

Amount Awarded: $13,910.00

HOOSIER UPLANDS ECONOMIC DEVELOPMENT CORPORATION

500 W Main St

MITCHELL, IN 47446-1411

Grant Type: COMPREHENSIVE COUNSELING

Amount Awarded: $15,435.00

HOPE AMERICA, INC.—A/K/A HELPING ORDINARY PEOPLE EXCEL

133 W. Michigan Avenue, Ste. 204

YPSILANTI, MI 48197-5550

Grant Type: COMPREHENSIVE COUNSELING

Amount Awarded: $13,486.00

HOPE COMMUNITY DEVELOPMENT AGENCY

715 Howard Avenue

BILOXI, MS 39530-4305

Grant Type: COMPREHENSIVE COUNSELING

Amount Awarded: $12,598.00

HOUSING ASSISTANCE AND DEVELOPMENT SERVICES, INC.

213 E 12th Ave

BOWLING GREEN, KY 42101-3454

Grant Type: COMPREHENSIVE COUNSELING

Amount Awarded: $12,638.00

HOUSING AUTHORITY OF MINGO COUNTY

5026 Helena Avenue

Delbarton, WV 25670

Grant Type: COMPREHENSIVE COUNSELING

Amount Awarded: $13,659.00

HOUSING AUTHORITY OF THE CITY OF GREENSBORO D/B/A GREENSBORO HOUSING AUTHORITY

450 N Church St

Greensboro, NC 27401-2001

Grant Type: COMPREHENSIVE COUNSELING

Amount Awarded: $13,235.00

HOUSING AUTHORITY OF THE CITY OF HIGH POINT

500 E Russell Ave

High Point, NC 27260-6746

Grant Type: COMPREHENSIVE COUNSELING

Amount Awarded: $15,355.00

HOUSING AUTHORITY OF THE CITY OF JACKSON

2747 Livingston Rd

Jackson, MS 39213-6928

Grant Type: COMPREHENSIVE COUNSELING

Amount Awarded: $12,174.00

HOUSING AUTHORITY OF THE CITY OF PATERSON

60 Van Houten St

Paterson, NJ 07505-1028

Grant Type: COMPREHENSIVE COUNSELING

Amount Awarded: $16,244.00

HOUSING AUTHORITY OF YAMHILL COUNTY

135 NE Dunn Pl

McMinnville, OR 97128-9081

Grant Type: COMPREHENSIVE COUNSELING

Amount Awarded: $13,910.00

HOUSING COUNSELING SERVICES, INCORPORATED

2410 17th St NW Ste 100

Washington, DC 20009-2724

Grant Type: COMPREHENSIVE COUNSELING

Amount Awarded: $35,352.00

HOUSING DEVELOPMENT CORPORATION OF SW FLORIDA, INC.

3200 Bailey Ln Ste 109

Naples, FL 34105-8506

Grant Type: COMPREHENSIVE COUNSELING

Amount Awarded: $13,647.00

HOUSING EDUCATION AND ECONOMIC DEVELOPMENT, INC.

3405 Medgar Evers Blvd

Jackson, MS 39213-6360

Grant Type: COMPREHENSIVE COUNSELING

Amount Awarded: $16,883.00

HOUSING INITIATIVE PARTNERSHIP, INC. (“HIP”)

6525 Belcrest Road

Suite 555

HYATTSVILLE, MD 20782-2003

Grant Type: COMPREHENSIVE COUNSELING

Amount Awarded: $18,857.00

HOUSING OPPORTUNITY DEVELOPMENT CORP.

2001 Waukegan Road

TECHNY, IL 60082-1000

Grant Type: COMPREHENSIVE COUNSELING

Amount Awarded: $12,174.00

HOUSING OPTIONS PROVIDED FOR THE ELDERLY

4265 Shaw Blvd

4265 Shaw Boulevard

Saint Louis, MO 63110-3526

Grant Type: COMPREHENSIVE COUNSELING

Amount Awarded: $29,222.00

JACKSON-VINTON COMMUNITY ACTION, INC.

118 S. New York Avenue

WELLSTON, OH 45692-1540

Grant Type: COMPREHENSIVE COUNSELING

Amount Awarded: $14,547.00

JACKSONVILLE AREA LEGAL AID, INC.

126 W Adams St

Jacksonville, FL 32202-3849

Grant Type: COMPREHENSIVE COUNSELING

Amount Awarded: $14,627.00

JEFFERSON COUNTY COMMITTEE FOR ECONOMIC OPPORTUNITY

801 46th Street North

BIRMINGHAM, AL 35212-2213

Grant Type: COMPREHENSIVE COUNSELING

Amount Awarded: $14,163.00

JEFFERSON COUNTY HOUSING AUTHORITY

3700 Industrial Parkway

BIRMINGHAM, AL 35217-5316

Grant Type: COMPREHENSIVE COUNSELING

Amount Awarded: $13,274.00

JONESBORO URBAN RENEWAL AND HOUSING AUTHORITY HOUSING AND COMMUNITY DEVELOPMENT ORGANIZATION (JURHA HCDO)

330 Union St

Jonesboro, AR 72401-2815

Grant Type: COMPREHENSIVE COUNSELING

Amount Awarded: $12,811.00

KANAWHA INSTITUTE FOR SOCIAL RESEARCH & ACTION, INC.

131 Perkins Ave

DUNBAR, WV 25064-1433

Grant Type: COMPREHENSIVE COUNSELING

Amount Awarded: $12,255.00

KCEOC COMMUNITY ACTION PARTNERSHIP, INC.

5448 North U.S. 25E, Suite A

GRAY, KY 40734-6582

Grant Type: COMPREHENSIVE COUNSELING

Amount Awarded: $14,587.00

KEUKA HOUSING COUNCIL

160 Main St

Penn Yan, NY 14527-1204

Grant Type: COMPREHENSIVE COUNSELING

Amount Awarded: $14,799.00

KINGDOM COMMUNITY, INC.

5151 West Madison Street

2nd Flr

CHICAGO, IL 60644-4148

Grant Type: COMPREHENSIVE COUNSELING

Amount Awarded: $15,396.00

LAKE COUNTY HOUSING AUTHORITY

33928 North U.S. Highway 45

GRAYSLAKE, IL 60030-1714

Grant Type: COMPREHENSIVE COUNSELING

Amount Awarded: $15,355.00

LATIN UNITED COMMUNITY HOUSING ASSOCIATION

3541 W. North Avenue

CHICAGO, IL 60647-4808

Grant Type: COMPREHENSIVE COUNSELING

Amount Awarded: $19,336.00

LEE COUNTY HOUSING DEVELOPMENT CORPORATION

3677 Central Ave #F

FORT MYERS, FL 33901-8226

Grant Type: COMPREHENSIVE COUNSELING

Amount Awarded: $16,283.00

LIMA ALLEN COUNCIL ON COMMUNITY AFFAIRS

540 S. Central Ave.,

LIMA, OH 45804-1306

Grant Type: COMPREHENSIVE COUNSELING

Amount Awarded: $13,315.00

LINCOLN HILLS DEVELOPMENT CORPORATION

302 Main St.

TELL CITY, IN 47586-2207

Grant Type: COMPREHENSIVE COUNSELING

Amount Awarded: $14,295.00

LIVE THE DREAM DEVELOPMENT, INC.

247 Double Springs Road

BOWLING GREEN, KY 42101-5160

Grant Type: COMPREHENSIVE COUNSELING

Amount Awarded: $12,174.00

LOS ANGELES NEIGHBORHOOD HOUSING SERVICES, INC.

3926 Wilshire Blvd Ste 200

Los Angeles, CA 90010-3303

Grant Type: COMPREHENSIVE COUNSELING

Amount Awarded: $21,713.00

MACOUPIN COUNTY HOUSING AUTHORITY

760 Anderson Street

CARLINVILLE, IL 62626-1003

Grant Type: COMPREHENSIVE COUNSELING

Amount Awarded: $13,235.00

MANATEE COMMUNITY ACTION AGENCY, INC. F/K/A MANATEE OPPORTUNITY COUNCIL, INCORPORATED

302 Manatee Ave E Ste 200

BRADENTON, FL 34208-1900

Grant Type: COMPREHENSIVE COUNSELING

Amount Awarded: $14,122.00

METEC

2605 W Krause Avenue

PEORIA, IL 61605-2904

Grant Type: COMPREHENSIVE COUNSELING

Amount Awarded: $15,223.00

METRO-INTERFAITH HOUSING MANAGEMENT CORPORATION DBA METRO INTERFAITH SERVICES

21 New St.

BINGHAMTON, NY 13903-1759

Grant Type: COMPREHENSIVE COUNSELING

Amount Awarded: $12,811.00

MID-FLORIDA HOUSING PARTNERSHIP, INC.

1834 Mason Ave

Daytona Beach, FL 32117-5101

Grant Type: COMPREHENSIVE COUNSELING

Amount Awarded: $15,859.00

MIDCOAST MAINE COMMUNITY ACTION

34 Wing Farm Pkwy

Bath, ME 04530-1515

Grant Type: COMPREHENSIVE COUNSELING

Amount Awarded: $14,203.00

MIDLAND COLLEGE BUSINESS & ECONOMIC DEVELOPMENT CENTER (BEDC)

201 W Florida Ave

Midland, TX 79701-7260

Grant Type: COMPREHENSIVE COUNSELING

Amount Awarded: $15,820.00

MISSION ECONOMIC DEVELOPMENT ASSOCIATION (MEDA)

2301 Mission Street Suite 301

SAN FRANCISCO, CA 94110-1898

Grant Type: COMPREHENSIVE COUNSELING

Amount Awarded: $16,283.00

MOBILE HOUSING BOARD

151 S Claiborne St

Mobile, AL 36602-2323

Grant Type: COMPREHENSIVE COUNSELING

Amount Awarded: $18,291.00

MOVIN' OUT, INC. (DISABLED ONLY)

206 E. Olin Avenue

MADISON, WI 53713-1434

Grant Type: COMPREHENSIVE COUNSELING

Amount Awarded: $16,071.00

MUNCIE HOME OWNERSHIP AND DEVELOPMENT CENTER

120 West Charles Street

MUNCIE, IN 47305-2419

Grant Type: COMPREHENSIVE COUNSELING

Amount Awarded: $13,486.00

MUSCATINE MUNICIPAL HOUSING AGENCY

215 Sycamore St

Muscatine, IA 52761-3839

Grant Type: COMPREHENSIVE COUNSELING

Amount Awarded: $15,355.00

NATIVE AMERICAN YOUTH AND FAMILY CENTER

5135 NE Columbia Blvd

Portland, OR 97218-1201

Grant Type: COMPREHENSIVE COUNSELING

Amount Awarded: $12,386.00

NCCS CENTER FOR NONPROFIT HOUSING

6308 S. Warner

FREMONT, MI 49412-9279

Grant Type: COMPREHENSIVE COUNSELING

Amount Awarded: $13,910.00

NEIGHBORHOOD ECONOMIC DEVELOPMENT CORPORATION (NEDCO)

212 Main St

Springfield, OR 97477-5370

Grant Type: COMPREHENSIVE COUNSELING

Amount Awarded: $18,977.00

NEIGHBORHOOD HOUSING SERVICES SILICON VALLEY

31 N. Second Street, Ste. 300

SAN JOSE, CA 95113-1232

Grant Type: COMPREHENSIVE COUNSELING

Amount Awarded: $15,647.00

NEW LEVEL COMMUNITY DEVELOPMENT CORPORATION

1112 Jefferson St

Nashville, TN 37208-2500

Grant Type: COMPREHENSIVE COUNSELING

Amount Awarded: $13,447.00

NEWTOWN COMMUNITY DEVELOPMENT CORPORATION

511 W University Dr Ste 4

Tempe, AZ 85281-5585

Grant Type: COMPREHENSIVE COUNSELING

Amount Awarded: $15,900.00

NIAGARA FALLS NEIGHBORHOOD HOUSING SERVICES

479 16th St

NIAGARA FALLS, NY 14303-1636

Grant Type: COMPREHENSIVE COUNSELING

Amount Awarded: $13,871.00

NORTH HUDSON COMMUNITY ACTION CORPORATION

800 31st St

Union City, NJ 07087-2428

Grant Type: COMPREHENSIVE COUNSELING

Amount Awarded: $12,811.00

NORTHEAST COLORADO HOUSING, INC.

801 S. West Street, 25

FORT MORGAN, CO 80701-4068

Grant Type: COMPREHENSIVE COUNSELING

Amount Awarded: $11,962.00

NORTHSIDE COMMUNITY DEVELOPMENT CORPORATION

1530 W. Morse Avenue

CHICAGO, IL 60626-3307

Grant Type: COMPREHENSIVE COUNSELING

Amount Awarded: $16,232.00

NORTHWEST MICHIGAN COMMUNITY ACTION AGENCY, INC

3963 Three Mile Road, North

TRAVERSE CITY, MI 49686-9164

Grant Type: COMPREHENSIVE COUNSELING

Amount Awarded: $23,168.00

NORTHWEST OHIO DEVELOPMENT AGENCY

432 N. Superior Street

TOLEDO, OH 43604-1416

Grant Type: COMPREHENSIVE COUNSELING

Amount Awarded: $15,184.00

NORTHWEST REGIONAL HOUSING AUTHORITY

114 Sisco Ave

HARRISON, AR 72601-2130

Grant Type: COMPREHENSIVE COUNSELING

Amount Awarded: $15,900.00

NY STATE OFFICE FOR PEOPLE WITH DEVELOPMENTAL DISABILITIES (OPWDD)

44 Holland Avenue

ALBANY, NY 12208-3411

Grant Type: COMPREHENSIVE COUNSELING

Amount Awarded: $16,444.00

OAKLAND COUNTY HOUSING COUNSELING

250 Elizabeth Lake Rd Ste 1900

Pontiac, MI 48341-1035

Grant Type: COMPREHENSIVE COUNSELING

Amount Awarded: $19,432.00

OAKLAND LIVINGSTON HUMAN SERVICE AGENCY

196 Cesar E Chavez Ave

Pontiac, MI 48342-1094

Grant Type: COMPREHENSIVE COUNSELING

Amount Awarded: $14,295.00

OCALA HOUSING AUTHORITY

1629 NW 4th St

Ocala, FL 34475-6051

Grant Type: COMPREHENSIVE COUNSELING

Amount Awarded: $22,784.00

OCEAN COMMUNITY ECONOMIC ACTION NOW, INC. (O.C.E.A.N., INC.)

22 Hyers St

Toms River, NJ 08753-7428

Grant Type: COMPREHENSIVE COUNSELING

Amount Awarded: $16,364.00

ONE STOP CAREER CENTER OF PUERTO RICO

Condominio Plaza Universidad 2000

Calle Anasco 839, Suite 5

RIO PIEDRAS, PR 00925-2450

Grant Type: COMPREHENSIVE COUNSELING

Amount Awarded: $17,640.00

OPA-LOCKA COMMUNITY DEVELOPMENT CORPORATION

490 Opa Locka Blvd

Opa Locka, FL 33054-3563

Grant Type: COMPREHENSIVE COUNSELING

Amount Awarded: $13,274.00

ORANGE COUNTY FAIR HOUSING COUNCIL, INC

1516 Brookhollow Drive

Suite A

SANTA ANA, CA 92705-5426

Grant Type: COMPREHENSIVE COUNSELING

Amount Awarded: $13,779.00

ORGANIZED COMMUNITY ACTION PROGRAM, INC

507 North Three Notch Street

TROY, AL 36081-2120

Grant Type: COMPREHENSIVE COUNSELING

Amount Awarded: $14,748.00

PRO-HOME, INC.

40 Summer Street

TAUNTON, MA 02780-3420

Grant Type: COMPREHENSIVE COUNSELING

Amount Awarded: $13,447.00

PROJECT SENTINEL

1490 El Camino Real

Santa Clara, CA 95050-4609

Grant Type: COMPREHENSIVE COUNSELING

Amount Awarded: $23,146.00

PROVIDENCE HOUSING AUTHORITY

100 Broad St

Providence, RI 02903-4154

Grant Type: COMPREHENSIVE COUNSELING

Amount Awarded: $13,447.00

PUERTO RICAN ASSOCIATION FOR HUMAN DEVELOPMENT, INC.

100 First Street

PERTH AMBOY, NJ 08861-4645

Grant Type: COMPREHENSIVE COUNSELING

Amount Awarded: $13,951.00

QUICKCERT, INC.

7122 S Sheridan Rd Ste 2-533

Tulsa, OK 74133-2748

Grant Type: COMPREHENSIVE COUNSELING

Amount Awarded: $30,191.00

RALEIGH AREA DEVELOPMENT AUTHORITY, INC.

4030 Wake Forest Road

Suite 205

RALEIGH, NC 27609-6800

Grant Type: COMPREHENSIVE COUNSELING

Amount Awarded: $14,839.00

RCAP SOLUTIONS, INC.

12 East Worcester Street

WORCESTER, MA 01604-3612

Grant Type: COMPREHENSIVE COUNSELING

Amount Awarded: $15,940.00

REAL PARENTS INC.

6741 Church Street

Suite #1

RIVERDALE, GA 30274-4716

Grant Type: COMPREHENSIVE COUNSELING

Amount Awarded: $11,338.00

REFUGEE FAMILY ASSISTANCE PROGRAM

5405 Memorial Drive Suite 101

STONE MOUNTAIN, GA 30083-3234

Grant Type: COMPREHENSIVE COUNSELING

Amount Awarded: $15,223.00

SANDHILLS COMMUNITY ACTION PROGRAM, INC.

340 Commerce Avenue, Suite 20

SOUTHERN PINES, NC 28387-7168

Grant Type: COMPREHENSIVE COUNSELING

Amount Awarded: $16,711.00

SENIOR CITIZENS UNITED COMMUNITY SERVICES OF CAMDEN COUNTY, INC.

537 W Nicholson Rd

Audubon, NJ 08106-1970

Grant Type: COMPREHENSIVE COUNSELING

Amount Awarded: $15,783.00

SMART MONEY HOUSING AKA SMART WOMEN SMART MONEY

3510 West Franklin Blvd

CHICAGO, IL 60624-1316

Grant Type: COMPREHENSIVE COUNSELING

Amount Awarded: $22,715.00

SOLITA'S HOUSE INC

3101 E. 7th Ave.

TAMPA, FL 33605-4207

Grant Type: COMPREHENSIVE COUNSELING

Amount Awarded: $15,859.00

SOUTH SUBURBAN HOUSING CENTER

18220 Harwood Avenue, Suite 1

HOMEWOOD, IL 60430-2151

Grant Type: COMPREHENSIVE COUNSELING

Amount Awarded: $16,960.00

SOUTHERN APPALACHIAN LABOR SCHOOL FOUNDATION, INC.

1862 Beards Fork Rd

ROBSON, WV 25173-9010

Grant Type: COMPREHENSIVE COUNSELING

Amount Awarded: $13,486.00

SOUTHERN BANCORP COMMUNITY PARTNERS

8924 Kanis Rd

Little Rock, AR 72205-6414

Grant Type: COMPREHENSIVE COUNSELING

Amount Awarded: $13,910.00

SOUTHERN MARYLAND TRI-COUNTY COMMUNITY ACTION

8383 Old Leonardtown Road

Hughesville, MD 20637

Grant Type: COMPREHENSIVE COUNSELING

Amount Awarded: $16,788.00

SOUTHERN MINNESOTA REGIONAL LEGAL SERVICES, INC.

55 5th St E Ste 400

Saint Paul, MN 55101-1118

Grant Type: COMPREHENSIVE COUNSELING

Amount Awarded: $18,353.00

SOUTH SOUND OUTREACH SERVICES

1106 Martin Luther King Jr Way

TACOMA, WA 98405-4152

Grant Type: COMPREHENSIVE COUNSELING

Amount Awarded: $14,122.00

SOUTHERN NEVADA REGIONAL HOUSING AUTHORITY (SNRHA)

340 N 11th St

Las Vegas, NV 89101-3125

Grant Type: COMPREHENSIVE COUNSELING

Amount Awarded: $11,750.00

SPRINGFIELD NEIGHBORHOOD HOUSING SERVICES

111 Wilbraham Rd

Springfield, MA 01109-3127

Grant Type: COMPREHENSIVE COUNSELING

Amount Awarded: $16,071.00

ST JOHNS HOUSING PARTNERSHIP, INC.

93 Orange St.

SAINT AUGUSTINE, FL 32084-3590

Grant Type: COMPREHENSIVE COUNSELING

Amount Awarded: $13,486.00

STATESVILLE HOUSING AUTHORITY

110 W Allison St

Statesville, NC 28677-6616

Grant Type: COMPREHENSIVE COUNSELING

Amount Awarded: $11,790.00

STEUBEN CHURCHPEOPLE AGAINST POVERTY, INC. D/B/A ARBOR HOUSING AND DEVELOPMENT

26 Bridge Street

CORNING, NY 14830-2207

Grant Type: COMPREHENSIVE COUNSELING

Amount Awarded: $17,055.00

SUMMECH COMMUNITY DEVELOPMENT CORPORATION, INC.

633 Pryor Street

ATLANTA, GA 30312-2738

Grant Type: COMPREHENSIVE COUNSELING

Amount Awarded: $16,419.00

TALLAHASSEE URBAN LEAGUE, INC

923 Old Bainbridge Rd

Tallahassee, FL 32303-6042

Grant Type: COMPREHENSIVE COUNSELING

Amount Awarded: $15,859.00

TAMPA BAY COMMUNITY DEVELOPMENT CORPORATION

2139 NE Coachman Rd, Suite 1

CLEARWATER, FL 33765-2612

Grant Type: COMPREHENSIVE COUNSELING

Amount Awarded: $13,831.00

THE AFFORDABLE HOUSING CORPORATION OF MARION, INDIANA

812 S Washington St

Marion, IN 46953-1967

Grant Type: COMPREHENSIVE COUNSELING

Amount Awarded: $19,972.00

THE AGRICULTURE AND LABOR PROGRAM, INC.

300 Lynchburg Road

LAKE ALFRED, FL 33850-2576

Grant Type: COMPREHENSIVE COUNSELING

Amount Awarded: $13,447.00

THE HOUSING AUTHORITY OF THE CITY OF PERTH AMBOY

881 Amboy Avenue

PERTH AMBOY, NJ 08861-1911

Grant Type: COMPREHENSIVE COUNSELING

Amount Awarded: $14,799.00

TOTAL RESOURCE COMMUNITY DEVELOPMENT ORGANIZATION

1415 West 104th Street

CHICAGO, IL 60643-2962

Grant Type: COMPREHENSIVE COUNSELING

Amount Awarded: $15,304.00

TREASURE COAST HOMELESS SERVICES COUNCIL, INC

2525 Saint Lucie Ave

Vero Beach, FL 32960-3385

Grant Type: COMPREHENSIVE COUNSELING

Amount Awarded: $14,547.00

TRI-VALLEY HOUSING OPPORTUNITY CENTER

141 N. Livermore Avenue Suite A

LIVERMORE, CA 94550-3118

Grant Type: COMPREHENSIVE COUNSELING

Amount Awarded: $13,235.00

TWIN RIVERS OPPORTUNITIES, INC.

318 Craven St.

NEW BERN, NC 28560-4909

Grant Type: COMPREHENSIVE COUNSELING

Amount Awarded: $18,619.00

UNIVERSAL HOUSING DEVELOPMENT CORPORATION

301 E 3rd St

RUSSELLVILLE, AR 72801-5109

Grant Type: COMPREHENSIVE COUNSELING

Amount Awarded: $15,647.00

UPSTATE HOUSING PARTNERSHIP

139 S Dean St

Spartanburg, SC 29302-1908

Grant Type: COMPREHENSIVE COUNSELING

Amount Awarded: $15,465.00

UTAH STATE UNIVERSITY—FAMILY LIFE CENTER—HFC

493 North 700 East

LOGAN, UT 84321-4231

Grant Type: COMPREHENSIVE COUNSELING

Amount Awarded: $16,207.00

WACO COMMUNITY DEVELOPMENT CORPORATION

1624 Colcord Ave

Waco, TX 76707-2246

Grant Type: COMPREHENSIVE COUNSELING

Amount Awarded: $15,608.00

WASHINGTON COUNTY COMMUNITY ACTION COUNCIL

101 Summit Ave

Hagerstown, MD 21740-5508

Grant Type: COMPREHENSIVE COUNSELING

Amount Awarded: $16,112.00

WASHINGTON HOUSING NONPROFIT, INC

1385 John Small Avenue

WASHINGTON, NC 27889-3842

Grant Type: COMPREHENSIVE COUNSELING

Amount Awarded: $13,447.00

WEST CENTRAL WISCONSIN COMMUNITY ACTION AGENCY, INC.

525 2nd St

P.O. Box 308

Glenwood City, WI 54013-8556

Grant Type: COMPREHENSIVE COUNSELING

Amount Awarded: $14,719.00

WEST PALM BEACH HOUSING AUTHORITY

1715 Division Ave

West Palm Beach, FL 33407-6284

Grant Type: COMPREHENSIVE COUNSELING

Amount Awarded: $12,598.00

WESTERN DAIRYLAND ECONOMIC OPPORTUNITY COUNCIL, INC.

23122 Whitehall Rd

INDEPENDENCE, WI 54747-7702

Grant Type: COMPREHENSIVE COUNSELING

Amount Awarded: $12,386.00

WESTERN PIEDMONT COUNCIL OF GOVERNMENTS

1880 2nd Ave NW

HICKORY, NC 28601-5766

Grant Type: COMPREHENSIVE COUNSELING

Amount Awarded: $16,156.00

WILL COUNTY CENTER FOR COMMUNITY CONCERNS

2455 Glenwood Avenue

JOLIET, IL 60435-5464

Grant Type: COMPREHENSIVE COUNSELING

Amount Awarded: $18,448.00

WOMEN'S DEVELOPMENT CENTER

4020 Pecos McLeod

LAS VEGAS, NV 89121-4350

Grant Type: COMPREHENSIVE COUNSELING

Amount Awarded: $13,447.00

WORKING IN NEIGHBORHOODS

1814 Dreman Ave

Cincinnati, OH 45223-2319

Grant Type: COMPREHENSIVE COUNSELING

Amount Awarded: $17,000.00

WSOS COMMUNITY ACTION COMMISSION, INC.

1518 E. County Road 113

GREEN SPRINGS, OH 44836-9606

Grant Type: COMPREHENSIVE COUNSELING

Amount Awarded: $12,891.00

YOUNGSTOWN METROPOLITAN HOUSING AUTHORITY

131 W Boardman St

Youngstown, OH 44503-1337

Grant Type: COMPREHENSIVE COUNSELING

Amount Awarded: $14,547.00

YOUNGSTOWN NEIGHBORHOOD DEVELOPMENT CORP.

820 Canfield Road

YOUNGSTOWN, OH 44511-2345

Grant Type: COMPREHENSIVE COUNSELING

Amount Awarded: $12,598.00

YOUTH EDUCATION AND HEALTH IN SOULARD

1901 S 11th St

Saint Louis, MO 63104-3915

Grant Type: COMPREHENSIVE COUNSELING

Amount Awarded: $15,531.00

Appendix B—List of Awardees for the FY 2015 Supplemental Comprehensive Housing Counseling NOFA

Intermediary Organizations (4)

HOUSING ACTION ILLINOIS

11 E. Adams St, Suite 1601

CHICAGO, IL 60603-6304

Grant Type: COMPREHENSIVE COUNSELING

Amount Awarded: $307,012.00

HOUSING OPPORTUNITIES COLLABORATIVE

1100 Broadway

SAN DIEGO, CA 92101-5612

Grant Type: COMPREHENSIVE COUNSELING

Amount Awarded: $114,984.00

MONTANA HOMEOWNERSHIP NETWORK DBA NEIGHBORWORKS MONTANA

509 1st Ave S

Great Falls, MT 59401-3604

Grant Type: COMPREHENSIVE COUNSELING

Amount Awarded: $342,398.00

PATHSTONE CORPORATION

400 East Avenue

ROCHESTER, NY 14607-1910

Grant Type: COMPREHENSIVE COUNSELING

Amount Awarded: $178,146.00

LHCA (32)

ACTION FOR BOSTON COMMUNITY DEVELOPMENT, INC.

178 Tremont St

Boston, MA 02111-1006

Grant Type: COMPREHENSIVE COUNSELING

Amount Awarded: $14,243.00

ALL-AMERICAN FORECLOSURE SOLUTIONS, INC

1430 SE 16th PL Suite “A”

CAPE CORAL, FL 33990-3807

Grant Type: COMPREHENSIVE COUNSELING

Amount Awarded: $15,717.00

BEAUFORT COUNTY BLACK CHAMBER OF COMMERCE

801 Bladen Street

BEAUFORT, SC 29902-4574

Grant Type: COMPREHENSIVE COUNSELING

Amount Awarded: $16,739.00

BENNINGTON-RUTLAND OPPORTUNITY COUNCIL, INC. (BROC)

45 Union Street

RUTLAND, VT 05701-3956

Grant Type: COMPREHENSIVE COUNSELING

Amount Awarded: $17,947.00

BLACK HILLS CHILDREN'S RANCH, INC.—PIONEER CREDIT COUNSELING

1644 Concourse Drive

RAPID CITY, SD 57703-4720

Grant Type: COMPREHENSIVE COUNSELING

Amount Awarded: $23,078.00

CITY OF VACAVILLE DEPARTMENT OF HOUSING SERVICES

40 Eldridge Avenue Suite 2

VACAVILLE, CA 95688-6824

Grant Type: COMPREHENSIVE COUNSELING

Amount Awarded: $12,146.00

COMMUNITY ACTION AGENCY OF OKLAHOMA CITY AND OKLAHOMA/CANADIAN COUNTIES, INC.

319 SW 25th St

Oklahoma City, OK 73109-5921

Grant Type: COMPREHENSIVE COUNSELING

Amount Awarded: $15,166.00

COMPASS FAMILY & COMMUNITY SERVICES

535 Marmion Ave

Youngstown, OH 44502-2323

Grant Type: COMPREHENSIVE COUNSELING

Amount Awarded: $14,049.00

CORPORACION DESARROLLO ECONOMICO,VIVIENDA Y SALUD

Calle Eugenio M. de Hostos #175

Esq Puro Girau

ARECIBO, PR 00612-4709

Grant Type: COMPREHENSIVE COUNSELING

Amount Awarded: $14,955.00

COUNTY OF BERGEN, DEPARTMENT OF HUMAN SERVICES, DIVISION OF SENIOR SERVICES

1 Bergen County Plz Fl 2

Hackensack, NJ 07601-7075

Grant Type: COMPREHENSIVE COUNSELING

Amount Awarded: $12,092.00

EASTERN EIGHT COMMUNITY DEVELOPMENT CORP.

214 East Watauga Avenue

JOHNSON CITY, TN 37601-4630

Grant Type: COMPREHENSIVE COUNSELING

Amount Awarded: $13,838.00

FAMILY FOUNDATIONS OF NORTHEAST FLORIDA, INC.

1639 Atlantic Blvd

Jacksonville, FL 32207-3346

Grant Type: COMPREHENSIVE COUNSELING

Amount Awarded: $16,648.00

FOOTHILLS CREDIT COUNSELING, INC.

709 W Main St

SUITE A

Forest City, NC 28043-2820

Grant Type: COMPREHENSIVE COUNSELING

Amount Awarded: $14,810.00

GARRETT COUNTY COMMUNITY ACTION COMMITTEE, INC.

104 E Center St Apt 3

Oakland, MD 21550-1341

Grant Type: COMPREHENSIVE COUNSELING

Amount Awarded: $18,944.00

GRAND RAPIDS URBAN LEAGUE

745 Eastern Ave SE

Grand Rapids, MI 49503-5544

Grant Type: COMPREHENSIVE COUNSELING

Amount Awarded: $15,348.00

GREATER LANSING HOUSING COALITION

600 W. Maple Street

LANSING, MI 48906-5093

Grant Type: COMPREHENSIVE COUNSELING

Amount Awarded: $15,862.00

GULFCOAST LEGAL SERVICES, INC

501 First Avenue N Suite 420

ST PETERSBURG, FL 33701-3714

Grant Type: COMPREHENSIVE COUNSELING

Amount Awarded: $13,929.00

HARFORD COUNTY HOUSING AGENCY

15 S Main St Ste 106

Bel Air, MD 21014-8723

Grant Type: COMPREHENSIVE COUNSELING

Amount Awarded: $18,224.00

HIGH PLAINS COMMUNITY DEVELOPMENT, CORP.

803 E 3rd St Ste 4

Chadron, NE 69337-2855

Grant Type: COMPREHENSIVE COUNSELING

Amount Awarded: $20,074.00

HISPANIC BROTHERHOOD OF ROCKVILLE CENTRE, INC.

59 Clinton Ave

Rockville Centre, NY 11570-4042

Grant Type: COMPREHENSIVE COUNSELING

Amount Awarded: $14,442.00

HOME OWNERSHIP RESOURCE CENTER OF LEE COUNTY

2915 Colonial Blvd Ste 200

Fort Myers, FL 33966-1009

Grant Type: COMPREHENSIVE COUNSELING

Amount Awarded: $12,932.00

HOUSING AUTHORITY OF THE CITY OF DURHAM

330 E Main St

Durham, NC 27701-3718

Grant Type: COMPREHENSIVE COUNSELING

Amount Awarded: $11,149.00

HOUSING AUTHORITY OF THE CITY OF PRICHARD

PO Box 10307

Prichard, AL 36610-0307

Grant Type: COMPREHENSIVE COUNSELING

Amount Awarded: $14,140.00

HOUSING SERVICES FOR EATON COUNTY

319 S Cochran Ave

Charlotte, MI 48813-1555

Grant Type: COMPREHENSIVE COUNSELING

Amount Awarded: $18,460.00

MARKETVIEW HEIGHTS ASSOCIATION, INC.

308 North Street

ROCHESTER, NY 14605-2540

Grant Type: COMPREHENSIVE COUNSELING

Amount Awarded: $14,351.00

NORTHERN PUEBLOS HOUSING AUTHORITY

5 W Gutierrez Ste 10

Santa Fe, NM 87506-0956

Grant Type: COMPREHENSIVE COUNSELING

Amount Awarded: $12,448.00

OPEN COMMUNITIES

614 Lincoln Avenue

WINNETKA, IL 60093-2331

Grant Type: COMPREHENSIVE COUNSELING

Amount Awarded: $14,049.00

OPEN DOOR COUNSELING CENTER

34420 SW Tualatin Valley Hwy

Hillsboro, OR 97123-5470

Grant Type: COMPREHENSIVE COUNSELING

Amount Awarded: $22,039.00

ROCKAWAY DEVELOPMENT AND REVITALIZATION CORPORATION

1920 Mott Ave

Suite 2

FAR ROCKAWAY, NY 11691-4106

Grant Type: COMPREHENSIVE COUNSELING

Amount Awarded: $15,257.00

TENANT RESOURCE CENTER

1202 Williamson St Ste A

Madison, WI 53703-4829

Grant Type: COMPREHENSIVE COUNSELING

Amount Awarded: $12,932.00

UNITED NEIGHBORS, INC.

808 Harrison Street

DAVENPORT, IA 52803-5000

Grant Type: COMPREHENSIVE COUNSELING

Amount Awarded: $14,260.00

WESTMORELAND COMMUNITY ACTION

226 S Maple Ave

Greensburg, PA 15601-3234

Grant Type: COMPREHENSIVE COUNSELING

Amount Awarded: $12,237.00

Appendix C—List of Awardees for the FY 2014—2015 Housing Counseling Training NOFA

Intermediary Organizations (3)

NATIONAL COMMUNITY REINVESTMENT COALITION, INC.

727 15th Street, NW Suite 900

WASHINGTON, DC 20005-6027

Grant Type: TRAINING

Amount Awarded: $589,680.00

NATIONAL COUNCIL OF LA RAZA

1126 16th Street, NW., Suite 600

Raul Yzaguirre Building

WASHINGTON, DC 20036-4845

Grant Type: TRAINING

Amount Awarded: $559,458.00

NEIGHBORHOOD REINVESTMENT CORP. DBA NEIGHBORWORKS AMERICA

999 North Capitol Street, NE

Suite 900

WASHINGTON, DC 20002-4684

Grant Type: TRAINING

Amount Awarded: $850,862.00

[FR Doc. 2015-19948 Filed 8-13-15; 8:45 am]

BILLING CODE 4210-67-P